DEPARTMENT OF LABOR

Employment and Training Administration

Labor Surplus Area Classification Under Executive Orders 12073 and 10582

ACTION: Notice.

SUMMARY: The purpose of this notice is to announce the annual list of labor surplus areas for Fiscal Year 2006.

DATES: Effective Date: The annual list of labor surplus areas is effective October 1, 2005 for all states.

FOR FURTHER INFORMATION CONTACT: Anthony D. Dais, Office of Workforce Investment, Employment and Training Administration, 200 Constitution Avenue, NW., Room S-4231, Washington, DC 20210. Telephone: (202) 693-2784.

SUPPLEMENTARY INFORMATION: The Department of Labor regulations implementing Executive Orders 12073 and 10582 are set forth at 20 CFR part 654, subparts A and B. These regulations require the Assistant Secretary of Labor for the Employment and Training Administration (ETA) to classify jurisdictions as labor surplus areas pursuant to the criteria specified in the regulations and to publish annually a list of labor surplus areas. Pursuant to those regulations, the Assistant Secretary of Labor is hereby publishing the annual list of labor surplus areas.

In addition, the regulations provide exceptional circumstance criteria for classifying labor surplus areas when catastrophic events, such as natural disasters, plant closings, and contract cancellations are expected to have a long-term impact on labor market area conditions, discounting temporary or seasonal factors.

Eligible Labor Surplus Areas

Procedures for Classifying Labor Surplus Areas

Labor surplus areas are classified on the basis of civil jurisdictions rather than on a metropolitan areas or labor market areas under the labor surplus area classification methodology. Civil jurisdictions are defined as all cities with a population of at least 25,000 and all counties. Townships with a population of 25,000 or more are also considered as civil jurisdictions in four states (Michigan, New Jersey, New York, and Pennsylvania). In Connecticut, Massachusetts, Puerto Rico, and Rhode Island where counties have very limited or no government functions, the classifications are done for individual towns.

A civil jurisdiction is classified as a labor surplus area when its average unemployment rate was at least 20 percent above the average unemployment rate for all states (including the District of Columbia and Puerto Rico) during the previous two calendar years. During periods of high national unemployment, the 20 percent ratio is disregarded and an area is classified as a labor surplus area if its unemployment rate during the previous two calendar years was 10 percent or more. This 10 percent ceiling concept comes into operation whenever, the two-year average unemployment rate for all states was 8.3 percent or above (i.e., 8.3 percent times the 1.20 ratio equals 10.0 percent). Similarly, a “floor” concept of 6.0 percent is used during periods of low national unemployment in order for an area to qualify as a labor surplus area (LSA). The six percent “floor” comes into effect whenever the average unemployment rate for all states during the two-year reference period was 5.0 percent or less.

The Department of Labor issues the labor surplus area list on a fiscal year basis. The list becomes effective each October 1 and remains in effect through the following September 30. During the course of the fiscal year, the annual list can be updated on the basis of exceptional circumstances petitions submitted by state workforce agencies and approved by the Employment and Training Administration. The reference period used in preparing the current list was January 2003 through December 2004. The national average unemployment rate during this period (including data for Puerto Rico) was 5.8 percent. After applying the 1.20 ratio, the unemployment rate for qualifying an area as having a surplus of labor for FY 2006 is 7.0 percent. Therefore, areas are included on the current annual labor surplus area list because their average unemployment rate during the reference period was 7.0 percent or above.

Petition for Exceptional Circumstances Consideration

The classification procedures also provide for the designation of labor surplus areas under exceptional circumstance criteria. These procedures permit the regular classification criteria to be waived when an area experiences a significant increase in unemployment which is not temporary or seasonal and which was not adequately reflected in the data for the two-year reference period. Under the program's exceptional circumstance procedures, labor surplus area classifications can be made on the basis of civil jurisdictions, Metropolitan Statistical Areas or Primary Metropolitan Statistical Areas. In order for an area to be classified as a labor surplus area under the exceptional circumstance criteria, the state workforce agency must submit a petition requesting such classification to the Department of Labor's Employment and Training Administration. The current conditions for exceptional circumstances classification are: an area unemployment rate of at least 7.0 percent for each of the three most recent months; projected unemployment rate of at least 7.0 for each of the next 12 months; and documented information that the exceptional circumstance event has already occurred. The state workforce agency may file petitions on behalf of civil jurisdictions, as well as Metropolitan Statistical Areas or Primary Metropolitan Statistical Areas, as defined by the Office of Management and Budget (OMB). The addresses of state workforce agencies are available on the LSA section of the ETA Web site http://www.uses.doleta.gov/programs/lsa.cfm. State workforce agencies should submit petitions in electronic format to dais.anthony@dol.gov or in hard copy to the ETA National Office, Office of Workforce Investment, 200 Constitution Ave., NW., Room S-4231, Washington, DC, 20210. Data collection for the petition is approved under OMB 1205-0207, dated November 23, 2004.

State Workforce Agencies

Alabama—Department of Industrial Relations, 649 Monroe St., Montgomery 36131

Alaska—Department of Labor & Workforce Development, P.O. Box 21149, Juneau 99802

Arizona—Arizona Department of Economic Security, P.O. Box 6123, Phoenix 85007

Arkansas—Employment Security Department, P.O. Box 2981, Little Rock 72203-2981

California—Employment Development Department, 800 Capitol Mall, Sacramento 95814

Colorado—Department of Labor and Employment, 633 17th Street, Denver 80202-3660

Connecticut—Connecticut Department of Labor, 200 Folly Brook Boulevard, Wethersfield 06109-1114

Delaware—Delaware Department of Labor, Division of Employment & Training, 4425 North Market Street, Wilmington 19802

District of Columbia—Department of Employment Services, 64 New York Avenue, NE., Washington 20002

Florida—Agency for Workforce Innovation, Caldwell Building, 107 E. Madison Street, Tallahassee 32399-6545

Georgia—Georgia Department of Labor, 148 Andrew Young International Boulevard, NE., Atlanta 30303

Hawaii—Department of Labor and Industrial Relations, 830 Punchbowl St., Honolulu 96813

Idaho—Department of Labor, 317 W. Main Street, Boise 83735

Illinois—Department of Employment Security, 33 S. State Street, Chicago 60602-2802

Indiana—Department of Workforce Development, 10 North Senate Avenue, Indianapolis 46204-2277

Iowa—Iowa Workforce Development, 1000 Grand Avenue, Des Moines 50319

Kansas—Kansas Department of Commerce, 1000 S.W. Jackson Street, Topeka 66612-1354

Kentucky—Department of Workforce Investment, 275 East Main Street, Frankfort 40621

Louisiana—Department of Labor, P.O. Box 94094, Baton Rouge 70804-9094

Maine—Department of Labor, 20 Union Street, Augusta 04332-0259

Maryland—Department of Labor, Licensing and Regulation, 500 N. Calvert Street, Baltimore 21201

Massachusetts—Division of Career Services, 19 Staniford Street, Boston, 02114

Michigan—Department of Labor & Economic Growth, Victor Office Center, 201 N. Washington Square, Lansing 48913

Minnesota—Department of Employment & Economic Development, 390 North Robert Street, St. Paul 55101

Mississippi—Employment Security Commission, 1520 W. Capital St., P.O. Box 1699, Jackson 39215-1699

Missouri—Department of Economic Development, Division of Workforce Development, 421 East Dunklin Street, Jefferson City 65104

Montana—Department of Labor and Industry, P.O. Box 1728, Helena 59624

Nebraska—Department of Labor, Div of Employment, 550 South 16th Street, Lincoln 68509

Nevada—Department of Employment, Training and Rehabilitation, 500 E. Third Street, Carson City 89713

New Hampshire—Department of Employment Security, 32 S. Main Street, Concord 03301-4857

New Jersey—Department of Labor and Workforce Development, P.O. Box 110, Trenton 08625

New Mexico—Department of Labor, 401 Broadway, NE., P.O. Box 1928, Albuquerque 87103

New York—Department of Labor, State Campus, Building 12, Albany 12240

North Carolina—Employment Security Commission of North Carolina, P.O. Box 25903, Raleigh 27611

North Dakota—Job Service North Dakota, 1000 E. Divide Ave., P.O. Box 5507, Bismarck, 58506-5507

Ohio—Department of Jobs and Family Services, 30 E. Broad Street, Columbus 43215

Oklahoma—Employment Security Commission, 2401 North Lincoln, Will Rogers Memorial Office Building, Oklahoma City 73105

Oregon—Oregon Employment Department, 875 Union St., NE., Salem 97311

Pennsylvania—Department of Labor & Industry, 1720 Labor & Industry Bldg., Harrisburg 17121

Puerto Rico—Department of Labor and Human Resources, 505 Munoz Rivera Avenue, Hato Rey 00936-4452

Rhode Island—Department of Labor & Training, 1511 Pontiac Avenue, Cranston 02920-4407

South Carolina—Employment Security Commission, Department of Employment and Training, P.O. Box 995, Columbia 29202

South Dakota—Department of Labor, 700 Governors Drive, Pierre 57501-2277

Tennessee—Department of Labor & Workforce Development, 500 James Robertson Parkway, Nashville 37245-1700

Texas—Texas Workforce Commission, 101 East 15th Street 440T, Austin 78778

Utah—Department of Workforce Services, 140 East 300 South, P.O. Box 45249, Salt Lake City 84145-0249

Vermont—Department of Employment & Training, P.O. Box 488, 5 Green Mountain Drive, Montpelier 05601-0488

Virginia—Virginia Employment Commission, 703 East Main Street, Richmond 12119

Washington—Employment Security Department, P.O. Box 9046, Olympia 98507-9046

West Virginia—Bureau of Employment Programs, 112 California Ave., Charleston 25305-0112

Wisconsin—Department of Workforce Development, 201 East Washington Avenue, Room A400, Madison 53702

Wyoming—Department of Workforce Services, 122 West 25th Street, Cheyenne 82002

Signed: at Washington, DC, this 3rd day of January, 2006.
Emily Stover DeRocco,
Assistant Secretary for Employment and Training.

Eligible labor surplus areas | Civil jurisdictions included
ALABAMA
ANNISTON CITY | ANNISTON CITY IN CALHOUN COUNTY.
BARBOUR COUNTY | BARBOUR COUNTY.
BESSEMER CITY | BESSEMER CITY IN JEFFERSON COUNTY.
BIRMINGHAM CITY | BIRMINGHAM CITY IN JEFFERSON COUNTY. SHELBY COUNTY.
BULLOCK COUNTY | BULLOCK COUNTY.
BUTLER COUNTY | BUTLER COUNTY.
CHOCTAW COUNTY | CHOCTAW COUNTY.
CLARKE COUNTY | CLARKE COUNTY.
COLBERT COUNTY | COLBERT COUNTY.
CONECUH COUNTY | CONECUH COUNTY.
COOSA COUNTY | COOSA COUNTY.
DALLAS COUNTY | DALLAS COUNTY.
ESCAMBIA COUNTY | ESCAMBIA COUNTY.
FLORENCE CITY | FLORENCE CITY IN LAUDERDALE COUNTY.
FRANKLIN COUNTY | FRANKLIN COUNTY.
GADSDEN CITY | GADSDEN CITY IN ETOWAH COUNTY.
GREENE COUNTY | GREENE COUNTY.
HALE COUNTY | HALE COUNTY.
LAMAR COUNTY | LAMAR COUNTY.
LOWNDES COUNTY | LOWNDES COUNTY.
MOBILE CITY | MOBILE CITY IN MOBILE COUNTY.
MONROE COUNTY | MONROE COUNTY.
PERRY COUNTY | PERRY COUNTY.
PICKENS COUNTY | PICKENS COUNTY.
PRICHARD CITY | PRICHARD CITY IN MOBILE COUNTY.
SUMTER COUNTY | SUMTER COUNTY.
TALLADEGA COUNTY | TALLADEGA COUNTY.
WASHINGTON COUNTY | WASHINGTON COUNTY.
WILCOX COUNTY | WILCOX COUNTY.
WINSTON COUNTY | WINSTON COUNTY.
ALASKA
ALEUTIANS EAST BOROUGH | ALEUTIANS EAST BOROUGH.
BETHEL CENSUS AREA | BETHEL CENSUS AREA.
DENALI BOROUGH | DENALI BOROUGH.
DILLINGHAM CENSUS AREA | DILLINGHAM CENSUS AREA.
FAIRBANKS CITY | FAIRBANKS CITY IN FAIRBANKS NORTH STAR BOROUGH.
HAINES BOROUGH | HAINES BOROUGH.
KENAI PENINSULA BOROUGH | KENAI PENINSULA BOROUGH.
KETCHIKAN GATEWAY BOROUGH | KETCHIKAN GATEWAY BOROUGH.
KODIAK ISLAND BOROUGH | KODIAK ISLAND BOROUGH.
LAKE AND PENINSULA BOROUGH | LAKE AND PENINSULA BOROUGH.
MATANUSKA-SUSITNA BOROUGH | MATANUSKA-SUSITNA BOROUGH.
NOME CENSUS AREA | NOME CENSUS AREA.
NORTH SLOPE BOROUGH | NORTH SLOPE BOROUGH.
NORTHWEST ARCTIC BOROUGH | NORTHWEST ARCTIC BOROUGH.
PRINCE OF WALES OUTER KETCHIKAN | PRINCE OF WALES OUTER KETCHIKAN.
SKAGWAY-HOONAH-ANGOON CEN AREA | SKAGWAY-HOONAH-ANGOON CEN AREA.
SOUTHEAST FAIRBANKS CENSUS AREA | SOUTHEAST FAIRBANKS CENSUS AREA.
VALDEZ CORDOVA CENSUS AREA | VALDEZ CORDOVA CENSUS AREA.
WADE HAMPTON CENSUS AREA | WADE HAMPTON CENSUS AREA.
WRANGELL-PETERSBURG CENSUS AREA | WRANGELL-PETERSBURG CENSUS AREA.
YAKUTAT BOROUGH | YAKUTAT BOROUGH.
YUKON-KOYUKUK CENSUS AREA | YUKON-KOYUKUK CENSUS AREA.
ARIZONA
APACHE COUNTY | APACHE COUNTY.
BALANCE OF COCONINO COUNTY | COCONINO COUNTY LESS FLAGSTAFF CITY.
GRAHAM COUNTY | GRAHAM COUNTY.
NAVAJO COUNTY | NAVAJO COUNTY.
BALANCE OF PINAL COUNTY | PINAL COUNTY LESS APACHE JUNCTION. CASA GRANDE CITY.
SANTA CRUZ COUNTY | SANTA CRUZ COUNTY.
YUMA CITY | YUMA CITY IN YUMA COUNTY.
BALANCE OF YUMA COUNTY | YUMA COUNTY LESS YUMA CITY.
ARKANSAS
ASHLEY COUNTY | ASHLEY COUNTY.
BRADLEY COUNTY | BRADLEY COUNTY.
CALHOUN COUNTY | CALHOUN COUNTY.
CHICOT COUNTY | CHICOT COUNTY.
CLAY COUNTY | CLAY COUNTY.
CROSS COUNTY | CROSS COUNTY.
DALLAS COUNTY | DALLAS COUNTY.
DESHA COUNTY | DESHA COUNTY.
DREW COUNTY | DREW COUNTY.
HOT SPRINGS CITY | HOT SPRINGS CITY IN GARLAND COUNTY.
IZARD COUNTY | IZARD COUNTY.
JACKSON COUNTY | JACKSON COUNTY.
LAWRENCE COUNTY | LAWRENCE COUNTY.
LEE COUNTY | LEE COUNTY.
LINCOLN COUNTY | LINCOLN COUNTY.
MISSISSIPPI COUNTY | MISSISSIPPI COUNTY.
MONROE COUNTY | MONROE COUNTY.
OUACHITA COUNTY | OUACHITA COUNTY.
PHILLIPS COUNTY | PHILLIPS COUNTY.
PINE BLUFF CITY | PINE BLUFF CITY IN JEFFERSON COUNTY.
RANDOLPH COUNTY | RANDOLPH COUNTY.
SHARP COUNTY | SHARP COUNTY.
ST. FRANCIS COUNTY | ST. FRANCIS COUNTY.
STONE COUNTY | STONE COUNTY.
UNION COUNTY | UNION COUNTY.
WEST MEMPHIS CITY | WEST MEMPHIS CITY IN CRITTENDEN COUNTY.
WOODRUFF COUNTY | WOODRUFF COUNTY.
CALIFORNIA
ALPINE COUNTY | ALPINE COUNTY.
AZUSA CITY | AZUSA CITY IN LOS ANGELES COUNTY.
BALDWIN PARK CITY | BALDWIN PARK CITY IN LOS ANGELES COUNTY.
BANNING CITY | BANNING CITY IN RIVERSIDE COUNTY.
BELL CITY | BELL CITY IN LOS ANGELES COUNTY.
BELL GARDENS CITY | BELL GARDENS CITY IN LOS ANGELES COUNTY.
BALANCE OF BUTTE COUNTY | BUTTE COUNTY LESS CHICO CITY. PARADISE CITY.
CALEXICO CITY | CALEXICO CITY IN IMPERIAL COUNTY.
CERES CITY | CERES CITY IN STANISLAUS COUNTY.
COACHELLA CITY | COACHELLA CITY IN RIVERSIDE COUNTY.
COLUSA COUNTY | COLUSA COUNTY.
COMPTON CITY | COMPTON CITY IN LOS ANGELES COUNTY.
CUDAHY CITY | CUDAHY CITY IN LOS ANGELES COUNTY.
DEL NORTE COUNTY | DEL NORTE COUNTY.
DELANO CITY | DELANO CITY IN KERN COUNTY.
EAST PALO ALTO CITY | EAST PALO ALTO CITY IN SAN MATEO COUNTY.
EL CENTRO CITY | EL CENTRO CITY IN IMPERIAL COUNTY.
EL MONTE CITY | EL MONTE CITY IN LOS ANGELES COUNTY.
EUREKA CITY | EUREKA CITY IN HUMBOLDT COUNTY.
FRESNO CITY | FRESNO CITY IN FRESNO COUNTY.
BALANCE OF FRESNO COUNTY | FRESNO COUNTY LESS CLOVIS CITY. FRESNO CITY.
GILROY CITY | GILROY CITY IN SANTA CLARA COUNTY.
GLENN COUNTY | GLENN COUNTY.
HANFORD CITY | HANFORD CITY IN KINGS COUNTY.
HAWTHORNE CITY | HAWTHORNE CITY IN LOS ANGELES COUNTY.
HAYWARD CITY | HAYWARD CITY IN ALAMEDA COUNTY.
HEMET CITY | HEMET CITY IN RIVERSIDE COUNTY.
HESPERIA CITY | HESPERIA CITY IN SAN BERNARDINO COUNTY.
HIGHLAND CITY | HIGHLAND CITY IN SAN BERNARDINO COUNTY.
HOLISTER CITY | HOLISTER CITY IN SAN BENITO COUNTY.
HUNTINGTON PARK CITY | HUNTINGTON PARK CITY IN LOS ANGELES COUNTY.
IMPERIAL BEACH CITY | IMPERIAL BEACH CITY IN SAN DIEGO COUNTY.
BALANCE OF IMPERIAL COUNTY | IMPERIAL COUNTY LESS CALEXICO CITY. EL CENTRO CITY.
INGLEWOOD CITY | INGLEWOOD CITY IN LOS ANGELES COUNTY.
BALANCE OF KERN COUNTY | KERN COUNTY LESS BAKERSFIELD CITY. DELANO CITY. RIDGECREST CITY.
BALANCE OF KINGS COUNTY | KINGS COUNTY LESS HANFORD CITY.
LA PUENTE CITY | LA PUENTE CITY IN LOS ANGELES COUNTY.
LAKE COUNTY | LAKE COUNTY.
LANCASTER CITY | LANCASTER CITY IN LOS ANGELES COUNTY.
LASSEN COUNTY | LASSEN COUNTY.
LOMPOC CITY | LOMPOC CITY IN SANTA BARBARA COUNTY.
LONG BEACH CITY | LONG BEACH CITY IN LOS ANGELES COUNTY.
LOS ANGELES CITY | LOS ANGELES CITY IN LOS ANGELES COUNTY.
LOS BANOS CITY | LOS BANOS CITY IN MERCED COUNTY.
LYNWOOD CITY | LYNWOOD CITY IN LOS ANGELES COUNTY.
MADERA CITY | MADERA CITY IN MADERA COUNTY.
BALANCE OF MADERA COUNTY | MADERA COUNTY LESS MADERA CITY.
MANTECA CITY | MANTECA CITY IN SAN JOAQUIN COUNTY.
MAYWOOD CITY | MAYWOOD CITY IN LOS ANGELES COUNTY.
MERCED CITY | MERCED CITY IN MERCED COUNTY.
BALANCE OF MERCED COUNTY | MERCED COUNTY LESS LOS BANOS CITY. MERCED CITY.
MILPITAS CITY | MILPITAS CITY IN SANTA CLARA COUNTY.
MODESTO CITY | MODESTO CITY IN STANISLAUS COUNTY.
MODOC COUNTY | MODOC COUNTY.
MONTEBELLO CITY | MONTEBELLO CITY IN LOS ANGELES COUNTY.
BALANCE OF MONTEREY COUNTY | MONTEREY COUNTY LESS MARINA CITY. MONTEREY CITY. SALINAS CITY. SEASIDE CITY.
MORENO VALLEY CITY | MORENO VALLEY CITY IN RIVERSIDE COUNTY.
MORGAN HILL CITY | MORGAN HILL CITY IN SANTA CLARA COUNTY.
NATIONAL CITY | NATIONAL CITY IN SAN DIEGO COUNTY.
NORWALK CITY | NORWALK CITY IN LOS ANGELES COUNTY.
OAKLAND CITY | OAKLAND CITY IN ALAMEDA COUNTY.
OXNARD CITY | OXNARD CITY IN VENTURA COUNTY.
PALMDALE CITY | PALMDALE CITY IN LOS ANGELES COUNTY.
PARAMOUNT CITY | PARAMOUNT CITY IN LOS ANGELES COUNTY.
PERRIS CITY | PERRIS CITY IN RIVERSIDE COUNTY.
PITTSBURG CITY | PITTSBURG CITY IN CONTRA COSTA COUNTY.
PLUMAS COUNTY | PLUMAS COUNTY.
POMONA CITY | POMONA CITY IN LOS ANGELES COUNTY.
PORTERVILLE CITY | PORTERVILLE CITY IN TULARE COUNTY.
RIALTO CITY | RIALTO CITY IN SAN BERNARDINO COUNTY.
RICHMOND CITY | RICHMOND CITY IN CONTRA COSTA COUNTY.
SALINAS CITY | SALINAS CITY IN MONTEREY COUNTY.
BALANCE OF SAN BENITO COUNTY | SAN BENITO COUNTY LESS HOLISTER CITY.
SAN BERNARDINO CITY | SAN BERNARDINO CITY IN SAN BERNARDINO COUNTY.
SAN JACINTO CITY | SAN JACINTO CITY IN RIVERSIDE COUNTY.
BALANCE OF SAN JOAQUIN COUNTY | SAN JOAQUIN COUNTY LESS LODI CITY.
| MANTECA CITY.
| STOCKTON CITY.
| TRACEY CITY.
SAN JOSE CITY | SAN JOSE CITY IN SANTA CLARA COUNTY.
SAN PABLO CITY | SAN PABLO CITY IN CONTRA COSTA COUNTY.
SANTA ANA CITY | SANTA ANA CITY IN ORANGE COUNTY.
BALANCE OF SANTA CLARA COUNTY | SANTA CLARA COUNTY LESS CAMPBELL CITY.
| CUPERTINO CITY.
| GILROY CITY.
| LOS ALTOS CITY.
| LOS GATOS TOWN.
| MILPITAS CITY.
| MORGAN HILL CITY.
| MOUNTAIN VIEW CITY.
| PALO ALTO CITY.
| SAN JOSE CITY.
| SANTA CLARA CITY.
| SARATOGA CITY.
| SUNNYVALE CITY.
SANTA MARIA CITY | SANTA MARIA CITY IN SANTA BARBARA COUNTY.
SANTA PAULA CITY | SANTA PAULA CITY IN VENTURA COUNTY.
BALANCE OF SHASTA COUNTY | SHASTA COUNTY LESS REDDING CITY.
SIERRA COUNTY | SIERRA COUNTY.
SISKIYOU COUNTY | SISKIYOU COUNTY.
SOUTH GATE CITY | SOUTH GATE CITY IN LOS ANGELES COUNTY.
BALANCE OF STANISLAUS COUNTY | STANISLAUS COUNTY LESS CERES CITY.
| MODESTO CITY.
| TURLOCK CITY.
STANTON CITY | STANTON CITY IN ORANGE COUNTY.
STOCKTON CITY | STOCKTON CITY IN SAN JOAQUIN COUNTY.
BALANCE OF SUTTER COUNTY | SUTTER COUNTY LESS YUBA CITY.
TEHAMA COUNTY | TEHAMA COUNTY.
TRINITY COUNTY | TRINITY COUNTY.
TULARE CITY | TULARE CITY IN TULARE COUNTY.
BALANCE OF TULARE COUNTY | TULARE COUNTY LESS PORTERVILLE CITY.
| TULARE CITY.
| VISALIA CITY.
TURLOCK CITY | TURLOCK CITY IN STANISLAUS COUNTY.
TWENTYNINE PALMS CITY | TWENTYNINE PALMS CITY IN SAN BERNARDINO COUNTY.
VALLEJO CITY | VALLEJO CITY IN SOLANO COUNTY.
VICTORVILLE CITY | VICTORVILLE CITY IN SAN BERNARDINO COUNTY.
VISALIA CITY | VISALIA CITY IN TULARE COUNTY.
WATSONVILLE CITY | WATSONVILLE CITY IN SANTA CRUZ COUNTY.
WEST SACRAMENTO CITY | WEST SACRAMENTO CITY IN YOLO COUNTY.
WOODLAND CITY | WOODLAND CITY IN YOLO COUNTY.
YUBA CITY | YUBA CITY IN SUTTER COUNTY.
YUBA COUNTY | YUBA COUNTY.
COLORADO
AURORA CITY | AURORA CITY IN ADAMS COUNTY. ARAPAHOE COUNTY.
BENT COUNTY | BENT COUNTY.
CONEJOS COUNTY | CONEJOS COUNTY.
COSTILLA COUNTY | COSTILLA COUNTY.
CROWLEY COUNTY | CROWLEY COUNTY.
DENVER CITY | DENVER CITY IN DENVER COUNTY.
DOLORES COUNTY | DOLORES COUNTY.
FREMONT COUNTY | FREMONT COUNTY.
HUERFANO COUNTY | HUERFANO COUNTY.
PUEBLO CITY | PUEBLO CITY IN PUEBLO COUNTY.
SAGUACHE COUNTY | SAGUACHE COUNTY.
CONNECTICUT
BRIDGEPORT CITY | BRIDGEPORT CITY.
EAST HARTFORD CITY | EAST HARTFORD CITY.
HARTFORD CITY | HARTFORD CITY.
KILLINGLY TOWN | KILLINGLY TOWN.
NEW BRITAIN CITY | NEW BRITAIN CITY.
NEW HAVEN CITY | NEW HAVEN CITY.
WATERBURY CITY | WATERBURY CITY.
DISTRICT OF COLUMBIA
WASHINGTON DC CITY | WASHINGTON DC CITY IN DISTRICT OF COLUMBIA.
FLORIDA
FORT PIERCE CITY | FORT PIERCE CITY IN ST. LUCIE COUNTY.
HENDRY COUNTY | HENDRY COUNTY.
HIALEAH CITY | HIALEAH CITY IN MIAMI-DADE COUNTY.
HOMESTEAD CITY | HOMESTEAD CITY IN MIAMI-DADE COUNTY.
LAKE WORTH CITY | LAKE WORTH CITY IN PALM BEACH COUNTY.
LAUDERDALE LAKES CITY | LAUDERDALE LAKES CITY IN BROWARD COUNTY.
MIAMI CITY | MIAMI CITY IN MIAMI-DADE COUNTY.
NORTH MIAMI BEACH CITY | NORTH MIAMI BEACH CITY IN MIAMI-DADE COUNTY.
NORTH MIAMI CITY | NORTH MIAMI CITY IN MIAMI-DADE COUNTY.
RIVIERA BEACH CITY | RIVIERA BEACH CITY IN PALM BEACH COUNTY.
SANFORD CITY | SANFORD CITY IN SEMINOLE COUNTY.
GEORGIA
ATLANTA CITY | ATLANTA CITY IN DE KALB COUNTY. FULTON COUNTY.
BURKE COUNTY | BURKE COUNTY.
EAST POINT CITY | EAST POINT CITY IN FULTON COUNTY.
JEFF DAVIS COUNTY | JEFF DAVIS COUNTY.
JEFFERSON COUNTY | JEFFERSON COUNTY.
MACON COUNTY | MACON COUNTY.
STEWART COUNTY | STEWART COUNTY.
TELFAIR COUNTY | TELFAIR COUNTY.
WARREN COUNTY | WARREN COUNTY.
WILKES COUNTY | WILKES COUNTY.
IDAHO
ADAMS COUNTY | ADAMS COUNTY.
BENEWAH COUNTY | BENEWAH COUNTY.
BOUNDARY COUNTY | BOUNDARY COUNTY.
CLEARWATER COUNTY | CLEARWATER COUNTY.
IDAHO COUNTY | IDAHO COUNTY.
LEMHI COUNTY | LEMHI COUNTY.
MINIDOKA COUNTY | MINIDOKA COUNTY.
PAYETTE COUNTY | PAYETTE COUNTY.
SHOSHONE COUNTY | SHOSHONE COUNTY.
VALLEY COUNTY | VALLEY COUNTY.
WASHINGTON COUNTY | WASHINGTON COUNTY.
ILLINOIS
ADDISON VILLAGE | ADDISON VILLAGE IN DU PAGE COUNTY.
ALEXANDER COUNTY | ALEXANDER COUNTY.
ALTON CITY | ALTON CITY IN MADISON COUNTY.
BELLEVILLE CITY | BELLEVILLE CITY IN ST. CLAIR COUNTY.
BOONE COUNTY | BOONE COUNTY.
BUREAU COUNTY | BUREAU COUNTY.
CALHOUN COUNTY | CALHOUN COUNTY.
CALUMET CITY | CALUMET CITY IN COOK COUNTY.
CARPENTERSVILLE CITY | CARPENTERSVILLE CITY IN KANE COUNTY.
CARROLL COUNTY | CARROLL COUNTY.
CHICAGO CITY | CHICAGO CITY IN COOK COUNTY.
CHICAGO HEIGHTS CITY | CHICAGO HEIGHTS CITY IN COOK COUNTY.
CICERO CITY | CICERO CITY IN COOK COUNTY.
CRAWFORD COUNTY | CRAWFORD COUNTY.
CUMBERLAND COUNTY | CUMBERLAND COUNTY.
DANVILLE CITY | DANVILLE CITY IN VERMILION COUNTY.
DECATUR CITY | DECATUR CITY IN MACON COUNTY.
DES PLAINES CITY | DES PLAINES CITY IN COOK COUNTY.
DOLTON VILLAGE | DOLTON VILLAGE IN COOK COUNTY.
EAST ST. LOUIS CITY | EAST ST. LOUIS CITY IN ST. CLAIR COUNTY.
ELGIN CITY | ELGIN CITY IN COOK COUNTY. KANE COUNTY.
FAYETTE COUNTY | FAYETTE COUNTY.
FRANKLIN COUNTY | FRANKLIN COUNTY.
FREEPORT CITY | FREEPORT CITY IN STEPHENSON COUNTY.
FULTON COUNTY | FULTON COUNTY.
GALESBURG CITY | GALESBURG CITY IN KNOX COUNTY.
GALLATIN COUNTY | GALLATIN COUNTY.
GRANITE CITY | GRANITE CITY IN MADISON COUNTY.
GRUNDY COUNTY | GRUNDY COUNTY.
HANOVER PARK VILLAGE | HANOVER PARK VILLAGE IN COOK COUNTY. DU PAGE COUNTY.
HARDIN COUNTY | HARDIN COUNTY.
HARVEY CITY | HARVEY CITY IN COOK COUNTY.
HENDERSON COUNTY | HENDERSON COUNTY.
JASPER COUNTY | JASPER COUNTY.
JOHNSON COUNTY | JOHNSON COUNTY.
JOLIET CITY | JOLIET CITY IN WILL COUNTY.
KANKAKEE CITY | KANKAKEE CITY IN KANKAKEE COUNTY.
BALANCE OF KNOX COUNTY | KNOX COUNTY LESS GALESBURG CITY.
LA SALLE COUNTY | LA SALLE COUNTY.
MARION COUNTY | MARION COUNTY.
MASON COUNTY | MASON COUNTY.
MAYWOOD VILLAGE | MAYWOOD VILLAGE IN COOK COUNTY.
MERCER COUNTY | MERCER COUNTY.
MONTGOMERY COUNTY | MONTGOMERY COUNTY.
NORTH CHICAGO CITY | NORTH CHICAGO CITY IN LAKE COUNTY.
PARK FOREST VILLAGE | PARK FOREST VILLAGE IN COOK COUNTY. WILL COUNTY.
PEKIN CITY | PEKIN CITY IN TAZEWELL COUNTY.
PERRY COUNTY | PERRY COUNTY.
POPE COUNTY | POPE COUNTY.
PULASKI COUNTY | PULASKI COUNTY.
PUTNAM COUNTY | PUTNAM COUNTY.
ROCKFORD CITY | ROCKFORD CITY IN WINNEBAGO COUNTY.
ROUND LAKE BEACH VILLAGE | ROUND LAKE BEACH VILLAGE IN LAKE COUNTY.
SALINE COUNTY | SALINE COUNTY.
STARK COUNTY | STARK COUNTY.
UNION COUNTY | UNION COUNTY.
WAUKEGAN CITY | WAUKEGAN CITY IN LAKE COUNTY.
WEST CHICAGO CITY | WEST CHICAGO CITY IN DU PAGE COUNTY.
WHITESIDE COUNTY | WHITESIDE COUNTY.
INDIANA
ANDERSON CITY | ANDERSON CITY IN MADISON COUNTY.
BLACKFORD COUNTY | BLACKFORD COUNTY.
EAST CHICAGO CITY | EAST CHICAGO CITY IN LAKE COUNTY.
ELKHART CITY | ELKHART CITY IN ELKHART COUNTY.
FAYETTE COUNTY | FAYETTE COUNTY.
GARY CITY | GARY CITY IN LAKE COUNTY.
HAMMOND CITY | HAMMOND CITY IN LAKE COUNTY.
KOKOMO CITY | KOKOMO CITY IN HOWARD COUNTY.
LAWRENCE COUNTY | LAWRENCE COUNTY.
MARION CITY | MARION CITY IN GRANT COUNTY.
MIAMI COUNTY | MIAMI COUNTY.
MICHIGAN CITY | MICHIGAN CITY IN LA PORTE COUNTY.
MUNCIE CITY | MUNCIE CITY IN DELAWARE COUNTY.
ORANGE COUNTY | ORANGE COUNTY.
RICHMOND CITY | RICHMOND CITY IN WAYNE COUNTY.
SOUTH BEND CITY | SOUTH BEND CITY IN ST. JOSEPH COUNTY.
STARKE COUNTY | STARKE COUNTY.
SULLIVAN COUNTY | SULLIVAN COUNTY.
TERRE HAUTE CITY | TERRE HAUTE CITY IN VIGO COUNTY.
VERMILLION COUNTY | VERMILLION COUNTY.
WHITE COUNTY | WHITE COUNTY.
IOWA
BURLINGTON CITY | BURLINGTON CITY IN DES MOINES COUNTY.
CLARKE COUNTY | CLARKE COUNTY.
LEE COUNTY | LEE COUNTY.
TAMA COUNTY | TAMA COUNTY.
KANSAS
CHEROKEE COUNTY | CHEROKEE COUNTY.
DONIPHAN COUNTY | DONIPHAN COUNTY.
KANSAS CITY KN | KANSAS CITY KN IN WYANDOTTE COUNTY.
LEAVENWORTH CITY | LEAVENWORTH CITY IN LEAVENWORTH COUNTY.
LINN COUNTY | LINN COUNTY.
SUMNER COUNTY | SUMNER COUNTY.
WICHITA CITY | WICHITA CITY IN SEDGWICK COUNTY.
KENTUCKY
BALLARD COUNTY | BALLARD COUNTY.
BATH COUNTY | BATH COUNTY.
BELL COUNTY | BELL COUNTY.
BOYLE COUNTY | BOYLE COUNTY.
BREATHITT COUNTY | BREATHITT COUNTY.
BUTLER COUNTY | BUTLER COUNTY.
CARLISLE COUNTY | CARLISLE COUNTY.
CARTER COUNTY | CARTER COUNTY.
BALANCE OF CHRISTIAN COUNTY | CHRISTIAN COUNTY LESS HOPKINSVILLE CITY.
CLAY COUNTY | CLAY COUNTY.
CLINTON COUNTY | CLINTON COUNTY.
CUMBERLAND COUNTY | CUMBERLAND COUNTY.
ELLIOTT COUNTY | ELLIOTT COUNTY.
ESTILL COUNTY | ESTILL COUNTY.
FLOYD COUNTY | FLOYD COUNTY.
FULTON COUNTY | FULTON COUNTY.
GRAVES COUNTY | GRAVES COUNTY.
GRAYSON COUNTY | GRAYSON COUNTY.
HARLAN COUNTY | HARLAN COUNTY.
HICKMAN COUNTY | HICKMAN COUNTY.
JACKSON COUNTY | JACKSON COUNTY.
KNOX COUNTY | KNOX COUNTY.
LAWRENCE COUNTY | LAWRENCE COUNTY.
LEE COUNTY | LEE COUNTY.
LESLIE COUNTY | LESLIE COUNTY.
LETCHER COUNTY | LETCHER COUNTY.
LEWIS COUNTY | LEWIS COUNTY.
LINCOLN COUNTY | LINCOLN COUNTY.
LYON COUNTY | LYON COUNTY.
MAGOFFIN COUNTY | MAGOFFIN COUNTY.
MARTIN COUNTY | MARTIN COUNTY.
MCCREARY COUNTY | MCCREARY COUNTY.
MCLEAN COUNTY | MCLEAN COUNTY.
MENIFEE COUNTY | MENIFEE COUNTY.
MORGAN COUNTY | MORGAN COUNTY.
MUHLENBERG COUNTY | MUHLENBERG COUNTY.
OWSLEY COUNTY | OWSLEY COUNTY.
PERRY COUNTY | PERRY COUNTY.
PIKE COUNTY | PIKE COUNTY.
POWELL COUNTY | POWELL COUNTY.
WOLFE COUNTY | WOLFE COUNTY.
LOUISIANA
ALEXANDRIA CITY | ALEXANDRIA CITY IN RAPIDES PARISH.
ALLEN PARISH | ALLEN PARISH.
ASSUMPTION PARISH | ASSUMPTION PARISH.
AVOYELLES PARISH | AVOYELLES PARISH.
BATON ROUGE CITY | BATON ROUGE CITY IN EAST BATON ROUGE PARISH.
BIENVILLE PARISH | BIENVILLE PARISH.
CALDWELL PARISH | CALDWELL PARISH.
CATAHOULA PARISH | CATAHOULA PARISH.
CLAIBORNE PARISH | CLAIBORNE PARISH.
CONCORDIA PARISH | CONCORDIA PARISH.
DE SOTO PARISH | DE SOTO PARISH.
EAST CARROLL PARISH | EAST CARROLL PARISH.
EAST FELICIANA PARISH | EAST FELICIANA PARISH.
EVANGELINE PARISH | EVANGELINE PARISH.
FRANKLIN PARISH | FRANKLIN PARISH.
GRANT PARISH | GRANT PARISH.
IBERVILLE PARISH | IBERVILLE PARISH.
JACKSON PARISH | JACKSON PARISH.
LA SALLE PARISH | LA SALLE PARISH.
LAKE CHARLES CITY | LAKE CHARLES CITY IN CALCASIEU PARISH.
MADISON PARISH | MADISON PARISH.
MONROE CITY | MONROE CITY IN OUACHITA PARISH.
MOREHOUSE PARISH | MOREHOUSE PARISH.
NEW IBERIA CITY | NEW IBERIA CITY IN IBERIA PARISH.
POINTE COUPEE PARISH | POINTE COUPEE PARISH.
RED RIVER PARISH | RED RIVER PARISH.
RICHLAND PARISH | RICHLAND PARISH.
SHREVEPORT CITY | SHREVEPORT CITY IN BOSSIER PARISH. CADDO PARISH.
ST. JAMES PARISH | ST. JAMES PARISH.
ST. LANDRY PARISH | ST. LANDRY PARISH.
ST. MARY PARISH | ST. MARY PARISH.
TENSAS PARISH | TENSAS PARISH.
WASHINGTON PARISH | WASHINGTON PARISH.
WEBSTER PARISH | WEBSTER PARISH.
WEST CARROLL PARISH | WEST CARROLL PARISH.
WEST FELICIANA PARISH | WEST FELICIANA PARISH.
WINN PARISH | WINN PARISH.
MAINE
PISCATAQUIS COUNTY | PISCATAQUIS COUNTY.
SOMERSET COUNTY | SOMERSET COUNTY.
WASHINGTON COUNTY | WASHINGTON COUNTY.
MARYLAND
BALTIMORE CITY | BALTIMORE CITY.
MASSACHUSETTS
ADAMS TOWN | ADAMS TOWN IN BERKSHIRE COUNTY.
BROCKTON CITY | BROCKTON CITY IN PLYMOUTH COUNTY.
CHELSEA CITY | CHELSEA CITY IN SUFFOLK COUNTY.
FALL RIVER CITY | FALL RIVER CITY IN BRISTOL COUNTY.
FITCHBURG CITY | FITCHBURG CITY IN WORCESTER COUNTY.
FLORIDA TOWN | FLORIDA TOWN IN BERKSHIRE COUNTY.
HOLYOKE CITY | HOLYOKE CITY IN HAMPDEN COUNTY.
LAWRENCE CITY | LAWRENCE CITY IN ESSEX COUNTY.
LOWELL CITY | LOWELL CITY IN MIDDLESEX COUNTY.
METHUEN CITY | METHUEN CITY IN ESSEX COUNTY.
MONROE TOWN | MONROE TOWN IN FRANKLIN COUNTY.
NEW BEDFORD CITY | NEW BEDFORD CITY IN BRISTOL COUNTY.
PROVINCETOWN TOWN | PROVINCETOWN TOWN IN BARNSTABLE COUNTY.
REVERE CITY | REVERE CITY IN SUFFOLK COUNTY.
SOUTHBRIDGE TOWN | SOUTHBRIDGE TOWN IN WORCESTER COUNTY.
SPRINGFIELD CITY | SPRINGFIELD CITY IN HAMPDEN COUNTY.
TRURO TOWN | TRURO TOWN IN BARNSTABLE COUNTY.
MICHIGAN
ALCONA COUNTY | ALCONA COUNTY.
ALGER COUNTY | ALGER COUNTY.
ALPENA COUNTY | ALPENA COUNTY.
ANTRIM COUNTY | ANTRIM COUNTY.
ARENAC COUNTY | ARENAC COUNTY.
BARAGA COUNTY | BARAGA COUNTY.
BATTLE CREEK CITY | BATTLE CREEK CITY IN CALHOUN COUNTY.
BAY CITY | BAY CITY IN BAY COUNTY.
BALANCE OF BAY COUNTY | BAY COUNTY LESS BAY CITY. MIDLAND CITY
BENZIE COUNTY | BENZIE COUNTY.
BERRIEN COUNTY | BERRIEN COUNTY.
BRANCH COUNTY | BRANCH COUNTY.
CHARLEVOIX COUNTY | CHARLEVOIX COUNTY.
CHEBOYGAN COUNTY | CHEBOYGAN COUNTY.
CHIPPEWA COUNTY | CHIPPEWA COUNTY.
CLARE COUNTY | CLARE COUNTY.
CLINTON TOWNSHIP | CLINTON TOWNSHIP IN MACOMB COUNTY.
CRAWFORD COUNTY | CRAWFORD COUNTY.
DELTA COUNTY | DELTA COUNTY.
DETROIT CITY | DETROIT CITY IN WAYNE COUNTY.
EMMET COUNTY | EMMET COUNTY.
FLINT CITY | FLINT CITY IN GENESEE COUNTY.
FLINT TOWNSHIP | FLINT TOWNSHIP IN GENESEE COUNTY.
GLADWIN COUNTY | GLADWIN COUNTY.
GOGEBIC COUNTY | GOGEBIC COUNTY.
GRAND RAPIDS CITY | GRAND RAPIDS CITY IN KENT COUNTY.
GRATIOT COUNTY | GRATIOT COUNTY.
HIGHLAND PARK CITY | HIGHLAND PARK CITY IN WAYNE COUNTY.
HILLSDALE COUNTY | HILLSDALE COUNTY.
HOLLAND CITY | HOLLAND CITY IN ALLEGAN COUNTY. OTTAWA COUNTY.
HOLLAND TOWNSHIP | HOLLAND TOWNSHIP IN OTTAWA COUNTY.
HURON COUNTY | HURON COUNTY.
INKSTER CITY | INKSTER CITY IN WAYNE COUNTY.
IONIA COUNTY | IONIA COUNTY.
IOSCO COUNTY | IOSCO COUNTY.
IRON COUNTY | IRON COUNTY.
JACKSON CITY | JACKSON CITY IN JACKSON COUNTY.
KALAMAZOO CITY | KALAMAZOO CITY IN KALAMAZOO COUNTY.
KALKASKA COUNTY | KALKASKA COUNTY.
KEWEENAW COUNTY | KEWEENAW COUNTY.
LAKE COUNTY | LAKE COUNTY.
LANSING CITY | LANSING CITY IN EATON COUNTY. INGHAM COUNTY.
LAPEER COUNTY | LAPEER COUNTY.
LENAWEE COUNTY | LENAWEE COUNTY.
LUCE COUNTY | LUCE COUNTY.
MACKINAC COUNTY | MACKINAC COUNTY.
MANISTEE COUNTY | MANISTEE COUNTY.
MASON COUNTY | MASON COUNTY.
BALANCE OF MIDLAND COUNTY | MIDLAND COUNTY LESS MIDLAND CITY.
MISSAUKEE COUNTY | MISSAUKEE COUNTY.
MONTCALM COUNTY | MONTCALM COUNTY.
MONTMORENCY COUNTY | MONTMORENCY COUNTY.
MOUNT MORRIS TOWNSHIP | MOUNT MORRIS TOWNSHIP IN GENESEE COUNTY.
MUSKEGON CITY | MUSKEGON CITY IN MUSKEGON COUNTY.
BALANCE OF MUSKEGON COUNTY | MUSKEGON COUNTY LESS MUSKEGON CITY.
NEWAYGO COUNTY | NEWAYGO COUNTY.
OAK PARK CITY | OAK PARK CITY. OAKLAND COUNTY.
OCEANA COUNTY | OCEANA COUNTY.
OGEMAW COUNTY | OGEMAW COUNTY.
ONTONAGON COUNTY | ONTONAGON COUNTY.
OSCEOLA COUNTY | OSCEOLA COUNTY.
OSCODA COUNTY | OSCODA COUNTY.
OTSEGO COUNTY | OTSEGO COUNTY.
PONTIAC CITY | PONTIAC CITY IN OAKLAND COUNTY.
PORT HURON CITY | PORT HURON CITY IN ST. CLAIR COUNTY.
PRESQUE ISLE COUNTY | PRESQUE ISLE COUNTY.
ROSCOMMON COUNTY | ROSCOMMON COUNTY.
ROSEVILLE CITY | ROSEVILLE CITY IN MACOMB COUNTY.
SAGINAW CITY | SAGINAW CITY IN SAGINAW COUNTY.
BALANCE OF SAGINAW COUNTY | SAGINAW COUNTY LESS SAGINAW CITY. SAGINAW TOWNSHIP.
SANILAC COUNTY | SANILAC COUNTY.
SCHOOLCRAFT COUNTY | SCHOOLCRAFT COUNTY.
SHIAWASSEE COUNTY | SHIAWASSEE COUNTY.
SOUTHFIELD CITY | SOUTHFIELD CITY IN OAKLAND COUNTY.
ST CLAIR SHORES CITY | ST CLAIR SHORES CITY IN MACOMB COUNTY.
BALANCE OF ST. CLAIR COUNTY | ST. CLAIR COUNTY LESS PORT HURON CITY.
ST. JOSEPH COUNTY | ST. JOSEPH COUNTY.
TUSCOLA COUNTY | TUSCOLA COUNTY.
VAN BUREN COUNTY | VAN BUREN COUNTY.
WARREN CITY | WARREN CITY IN MACOMB COUNTY.
WEXFORD COUNTY | WEXFORD COUNTY.
WYOMING CITY | WYOMING CITY IN KENT COUNTY.
MINNESOTA
CASS COUNTY | CASS COUNTY.
CLEARWATER COUNTY | CLEARWATER COUNTY.
ITASCA COUNTY | ITASCA COUNTY.
KANABEC COUNTY | KANABEC COUNTY.
KITTSON COUNTY | KITTSON COUNTY.
MARSHALL COUNTY | MARSHALL COUNTY.
MILLE LACS COUNTY | MILLE LACS COUNTY.
RED LAKE COUNTY | RED LAKE COUNTY.
MISSISSIPPI
ADAMS COUNTY | ADAMS COUNTY.
ALCORN COUNTY | ALCORN COUNTY.
AMITE COUNTY | AMITE COUNTY.
ATTALA COUNTY | ATTALA COUNTY.
BENTON COUNTY | BENTON COUNTY.
BOLIVAR COUNTY | BOLIVAR COUNTY.
CALHOUN COUNTY | CALHOUN COUNTY.
CHICKASAW COUNTY | CHICKASAW COUNTY.
CHOCTAW COUNTY | CHOCTAW COUNTY.
CLAIBORNE COUNTY | CLAIBORNE COUNTY.
CLARKE COUNTY | CLARKE COUNTY.
CLAY COUNTY | CLAY COUNTY.
COAHOMA COUNTY | COAHOMA COUNTY.
COLUMBUS CITY | COLUMBUS CITY IN LOWNDES COUNTY.
FRANKLIN COUNTY | FRANKLIN COUNTY.
GEORGE COUNTY | GEORGE COUNTY.
GREENE COUNTY | GREENE COUNTY.
GREENVILLE CITY | GREENVILLE CITY IN WASHINGTON COUNTY.
HOLMES COUNTY | HOLMES COUNTY.
HUMPHREYS COUNTY | HUMPHREYS COUNTY.
ISSAQUENA COUNTY | ISSAQUENA COUNTY.
JASPER COUNTY | JASPER COUNTY.
JEFFERSON COUNTY | JEFFERSON COUNTY.
JEFFERSON DAVIS COUNTY | JEFFERSON DAVIS COUNTY.
KEMPER COUNTY | KEMPER COUNTY.
LEFLORE COUNTY | LEFLORE COUNTY.
MARSHALL COUNTY | MARSHALL COUNTY.
MERIDIAN CITY | MERIDIAN CITY IN LAUDERDALE COUNTY.
MONROE COUNTY | MONROE COUNTY.
MONTGOMERY COUNTY | MONTGOMERY COUNTY.
NOXUBEE COUNTY | NOXUBEE COUNTY.
PANOLA COUNTY | PANOLA COUNTY.
PASCAGOULA CITY | PASCAGOULA CITY IN JACKSON COUNTY.
PERRY COUNTY | PERRY COUNTY.
QUITMAN COUNTY | QUITMAN COUNTY.
SHARKEY COUNTY | SHARKEY COUNTY.
SUNFLOWER COUNTY | SUNFLOWER COUNTY.
TALLAHATCHIE COUNTY | TALLAHATCHIE COUNTY.
TIPPAH COUNTY | TIPPAH COUNTY.
TISHOMINGO COUNTY | TISHOMINGO COUNTY.
TUNICA COUNTY | TUNICA COUNTY.
VICKSBURG CITY | VICKSBURG CITY IN WARREN COUNTY.
BALANCE OF WASHINGTON COUNTY | WASHINGTON COUNTY LESS GREENVILLE CITY.
WAYNE COUNTY | WAYNE COUNTY.
WEBSTER COUNTY | WEBSTER COUNTY.
WILKINSON COUNTY | WILKINSON COUNTY.
WINSTON COUNTY | WINSTON COUNTY.
YALOBUSHA COUNTY | YALOBUSHA COUNTY.
YAZOO COUNTY | YAZOO COUNTY.
MISSOURI
DUNKLIN COUNTY | DUNKLIN COUNTY.
HENRY COUNTY | HENRY COUNTY.
HICKORY COUNTY | HICKORY COUNTY.
IRON COUNTY | IRON COUNTY.
KANSAS CITY MO | KANSAS CITY MO IN CASS COUNTY.
| CLAY COUNTY.
| JACKSON COUNTY.
| PLATTE COUNTY.
LACLEDE COUNTY | LACLEDE COUNTY.
LINN COUNTY | LINN COUNTY.
MISSISSIPPI COUNTY | MISSISSIPPI COUNTY.
NEW MADRID COUNTY | NEW MADRID COUNTY.
PEMISCOT COUNTY | PEMISCOT COUNTY.
REYNOLDS COUNTY | REYNOLDS COUNTY.
SHANNON COUNTY | SHANNON COUNTY.
ST LOUIS CITY | ST LOUIS CITY.
STONE COUNTY | STONE COUNTY.
SULLIVAN COUNTY | SULLIVAN COUNTY.
TANEY COUNTY | TANEY COUNTY.
TEXAS COUNTY | TEXAS COUNTY.
WASHINGTON COUNTY | WASHINGTON COUNTY.
WAYNE COUNTY | WAYNE COUNTY.
MONTANA
BIG HORN COUNTY | BIG HORN COUNTY.
GLACIER COUNTY | GLACIER COUNTY.
LINCOLN COUNTY | LINCOLN COUNTY.
NEBRASKA
THURSTON COUNTY | THURSTON COUNTY.
NEW JERSEY
ATLANTIC CITY | ATLANTIC CITY IN ATLANTIC COUNTY.
BERKELEY TOWNSHIP | BERKELEY TOWNSHIP IN OCEAN COUNTY.
CAMDEN CITY | CAMDEN CITY IN CAMDEN COUNTY.
CAPE MAY COUNTY | CAPE MAY COUNTY.
CITY OF ORANGE TOWNSHIP | CITY OF ORANGE TOWNSHIP IN ESSEX COUNTY.
BALANCE OF CUMBERLAND COUNTY | CUMBERLAND COUNTY LESS MILLVILLE CITY. VINELAND CITY.
EAST ORANGE CITY | EAST ORANGE CITY IN ESSEX COUNTY.
ELIZABETH CITY | ELIZABETH CITY IN UNION COUNTY.
ENGLEWOOD CITY | ENGLEWOOD CITY IN BERGEN COUNTY.
GARFIELD CITY | GARFIELD CITY IN BERGEN COUNTY.
HACKENSACK CITY | HACKENSACK CITY IN BERGEN COUNTY.
IRVINGTON TOWNSHIP | IRVINGTON TOWNSHIP IN ESSEX COUNTY.
JERSEY CITY | JERSEY CITY IN HUDSON COUNTY.
LAKEWOOD TOWNSHIP | LAKEWOOD TOWNSHIP IN OCEAN COUNTY.
LAWRENCE TOWNSHIP | LAWRENCE TOWNSHIP IN MERCER COUNTY.
LONG BRANCH CITY | LONG BRANCH CITY IN MONMOUTH COUNTY.
MILLVILLE CITY | MILLVILLE CITY IN CUMBERLAND COUNTY.
NEPTUNE TOWNSHIP | NEPTUNE TOWNSHIP IN MONMOUTH COUNTY.
NEW BRUNSWICK CITY | NEW BRUNSWICK CITY IN MIDDLESEX COUNTY.
NEWARK CITY | NEWARK CITY IN ESSEX COUNTY.
PASSAIC CITY | PASSAIC CITY IN PASSAIC COUNTY.
PATERSON CITY | PATERSON CITY IN PASSAIC COUNTY.
PERTH AMBOY CITY | PERTH AMBOY CITY IN MIDDLESEX COUNTY.
PLAINFIELD CITY | PLAINFIELD CITY IN UNION COUNTY.
TRENTON CITY | TRENTON CITY IN MERCER COUNTY.
UNION CITY | UNION CITY IN HUDSON COUNTY.
WEST NEW YORK TOWN | WEST NEW YORK TOWN IN HUDSON COUNTY.
WILLINGBORO TOWNSHIP | WILLINGBORO TOWNSHIP IN BURLINGTON COUNTY.
NEW MEXICO
CATRON COUNTY | CATRON COUNTY.
DE BACA COUNTY | DE BACA COUNTY.
GRANT COUNTY | GRANT COUNTY.
GUADALUPE COUNTY | GUADALUPE COUNTY.
LUNA COUNTY | LUNA COUNTY.
MCKINLEY COUNTY | MC KINLEY COUNTY.
MORA COUNTY | MORA COUNTY.
ROSWELL CITY | ROSWELL CITY IN CHAVES COUNTY.
BALANCE OF SAN JUAN COUNTY | SAN JUAN COUNTY LESS FARMINGTON CITY.
BALANCE OF SANDOVAL COUNTY | SANDOVAL COUNTY LESS RIO RANCHO CITY.
TAOS COUNTY | TAOS COUNTY.
NEW YORK
BRONX COUNTY | BRONX COUNTY.
BUFFALO CITY | BUFFALO CITY IN ERIE COUNTY.
ELMIRA CITY | ELMIRA CITY IN CHEMUNG COUNTY.
HEMPSTEAD VILLAGE | HEMPSTEAD VILLAGE IN NASSAU COUNTY.
BALANCE OF JEFFERSON COUNTY | JEFFERSON COUNTY LESS WATERTOWN CITY.
KINGS COUNTY | KINGS COUNTY.
NIAGARA FALLS CITY | NIAGARA FALLS CITY IN NIAGARA COUNTY.
OSWEGO COUNTY | OSWEGO COUNTY.
ROCHESTER CITY | ROCHESTER CITY IN MONROE COUNTY.
NORTH CAROLINA
ALLEGHANY COUNTY | ALLEGHANY COUNTY.
ANSON COUNTY | ANSON COUNTY.
BEAUFORT COUNTY | BEAUFORT COUNTY.
BERTIE COUNTY | BERTIE COUNTY.
BLADEN COUNTY | BLADEN COUNTY.
BALANCE OF BURKE COUNTY | BURKE COUNTY LESS HICKORY CITY.
BURLINGTON CITY | BURLINGTON CITY IN ALAMANCE COUNTY.
CALDWELL COUNTY | CALDWELL COUNTY.
CASWELL COUNTY | CASWELL COUNTY.
CHEROKEE COUNTY | CHEROKEE COUNTY.
CLEVELAND COUNTY | CLEVELAND COUNTY.
COLUMBUS COUNTY | COLUMBUS COUNTY.
CONCORD CITY | CONCORD CITY IN CABARRUS COUNTY.
GASTONIA CITY | GASTONIA CITY IN GASTON COUNTY.
GOLDSBORO CITY | GOLDSBORO CITY IN WAYNE COUNTY.
GRAHAM COUNTY | GRAHAM COUNTY.
GRANVILLE COUNTY | GRANVILLE COUNTY.
HALIFAX COUNTY | HALIFAX COUNTY.
HICKORY CITY | HICKORY CITY IN BURKE COUNTY.
HIGH POINT CITY | HIGH POINT CITY IN DAVIDSON COUNTY. GUILFORD COUNTY. RANDOLPH COUNTY.
HYDE COUNTY | HYDE COUNTY.
JACKSONVILLE CITY | JACKSONVILLE CITY IN ONSLOW COUNTY.
KANNAPOLIS CITY | KANNAPOLIS CITY IN CABARRUS COUNTY. ROWAN COUNTY.
KINSTON CITY | KINSTON CITY IN LENOIR COUNTY.
MARTIN COUNTY | MARTIN COUNTY.
MC DOWELL COUNTY | MC DOWELL COUNTY.
MITCHELL COUNTY | MITCHELL COUNTY.
MONROE CITY | MONROE CITY IN UNION COUNTY.
MONTGOMERY COUNTY | MONTGOMERY COUNTY.
NORTHAMPTON COUNTY | NORTHAMPTON COUNTY.
PERSON COUNTY | PERSON COUNTY.
RICHMOND COUNTY | RICHMOND COUNTY.
ROBESON COUNTY | ROBESON COUNTY.
ROCKINGHAM COUNTY | ROCKINGHAM COUNTY.
ROCKY MOUNT CITY | ROCKY MOUNT CITY IN EDGECOMBE COUNTY. NASH COUNTY.
RUTHERFORD COUNTY | RUTHERFORD COUNTY.
SALISBURY CITY | SALISBURY CITY IN ROWAN COUNTY.
SCOTLAND COUNTY | SCOTLAND COUNTY.
SURRY COUNTY | SURRY COUNTY.
SWAIN COUNTY | SWAIN COUNTY.
TRANSYLVANIA COUNTY | TRANSYLVANIA COUNTY.
TYRRELL COUNTY | TYRRELL COUNTY.
VANCE COUNTY | VANCE COUNTY.
WARREN COUNTY | WARREN COUNTY.
WASHINGTON COUNTY | WASHINGTON COUNTY.
WILSON CITY | WILSON CITY IN WILSON COUNTY.
YANCEY COUNTY | YANCEY COUNTY.
NORTH DAKOTA
MC LEAN COUNTY | MC LEAN COUNTY.
PEMBINA COUNTY | PEMBINA COUNTY.
ROLETTE COUNTY | ROLETTE COUNTY.
OHIO
ADAMS COUNTY | ADAMS COUNTY.
ASHTABULA COUNTY | ASHTABULA COUNTY.
BARBERTON CITY | BARBERTON CITY IN SUMMIT COUNTY.
BROWN COUNTY | BROWN COUNTY.
CANTON CITY | CANTON CITY IN STARK COUNTY.
CARROLL COUNTY | CARROLL COUNTY.
CLEVELAND CITY | CLEVELAND CITY IN CUYAHOGA COUNTY.
COLUMBIANA COUNTY | COLUMBIANA COUNTY.
COSHOCTON COUNTY | COSHOCTON COUNTY.
CRAWFORD COUNTY | CRAWFORD COUNTY.
DAYTON CITY | DAYTON CITY IN MONTGOMERY COUNTY.
EAST CLEVELAND CITY | EAST CLEVELAND CITY IN CUYAHOGA COUNTY.
GALLIA COUNTY | GALLIA COUNTY.
GUERNSEY COUNTY | GUERNSEY COUNTY.
HARRISON COUNTY | HARRISON COUNTY.
HOCKING COUNTY | HOCKING COUNTY.
HURON COUNTY | HURON COUNTY.
JACKSON COUNTY | JACKSON COUNTY.
JEFFERSON COUNTY | JEFFERSON COUNTY.
LIMA CITY | LIMA CITY IN ALLEN COUNTY.
LORAIN CITY | LORAIN CITY IN LORAIN COUNTY
MANSFIELD CITY | MANSFIELD CITY IN RICHLAND COUNTY.
MASSILLON CITY | MASSILLON CITY IN STARK COUNTY.
MEIGS COUNTY | MEIGS COUNTY.
MONROE COUNTY | MONROE COUNTY.
MORGAN COUNTY | MORGAN COUNTY.
BALANCE OF MUSKINGUM COUNTY | MUSKINGUM COUNTY LESS ZANESVILLE CITY.
NOBLE COUNTY | NOBLE COUNTY.
OTTAWA COUNTY | OTTAWA COUNTY.
PERRY COUNTY | PERRY COUNTY.
PICKAWAY COUNTY | PICKAWAY COUNTY.
PIKE COUNTY | PIKE COUNTY.
BALANCE OF RICHLAND COUNTY | RICHLAND COUNTY LESS MANSFIELD CITY.
RIVERSIDE CITY | RIVERSIDE CITY IN MONTGOMERY COUNTY.
ROSS COUNTY | ROSS COUNTY.
SANDUSKY CITY | SANDUSKY CITY. ERIE COUNTY.
SCIOTO COUNTY | SCIOTO COUNTY.
SPRINGFIELD CITY | SPRINGFIELD CITY IN CLARK COUNTY.
TOLEDO CITY | TOLEDO CITY IN LUCAS COUNTY.
TROTWOOD CITY | TROTWOOD CITY IN MONTGOMERY COUNTY.
BALANCE OF TRUMBULL COUNTY | TRUMBULL COUNTY LESS WARREN CITY.
VINTON COUNTY | VINTON COUNTY.
WARREN CITY | WARREN CITY IN TRUMBULL COUNTY.
XENIA CITY | XENIA CITY IN GREENE COUNTY.
YOUNGSTOWN CITY | YOUNGSTOWN CITY IN MAHONING COUNTY.
ZANESVILLE CITY | ZANESVILLE CITY IN MUSKINGUM COUNTY.
OKLAHOMA
ADAIR COUNTY | ADAIR COUNTY.
CHOCTAW COUNTY | CHOCTAW COUNTY.
COAL COUNTY | COAL COUNTY.
HUGHES COUNTY | HUGHES COUNTY.
MC CURTAIN COUNTY | MC CURTAIN COUNTY.
MC INTOSH COUNTY | MC INTOSH COUNTY.
MUSKOGEE CITY | MUSKOGEE CITY IN MUSKOGEE COUNTY
OKFUSKEE COUNTY | OKFUSKEE COUNTY.
OKMULGEE COUNTY | OKMULGEE COUNTY.
SEMINOLE COUNTY | SEMINOLE COUNTY.
WOODS COUNTY | WOODS COUNTY.
OREGON
ALBANY CITY | ALBANY CITY IN LINN COUNTY.
BAKER COUNTY | BAKER COUNTY.
BALANCE OF CLACKAMAS COUNTY | CLACKAMAS COUNTY LESS LAKE OSWEGO CITY.
| OREGON CITY CITY.
| PORTLAND CITY.
CLATSOP COUNTY | CLATSOP COUNTY.
COLUMBIA COUNTY | COLUMBIA COUNTY.
COOS COUNTY | COOS COUNTY.
CROOK COUNTY | CROOK COUNTY.
CURRY COUNTY | CURRY COUNTY.
BALANCE OF DESCHUTES COUNTY | DESCHUTES COUNTY LESS BEND CITY.
DOUGLAS COUNTY | DOUGLAS COUNTY.
EUGENE CITY | EUGENE CITY IN LANE COUNTY.
GRANT COUNTY | GRANT COUNTY.
GRESHAM CITY | GRESHAM CITY IN MULTNOMAH COUNTY.
HARNEY COUNTY | HARNEY COUNTY.
HILLSBORO CITY | HILLSBORO CITY IN WASHINGTON COUNTY.
HOOD RIVER COUNTY | HOOD RIVER COUNTY.
BALANCE OF JACKSON COUNTY | JACKSON COUNTY LESS MEDFORD CITY.
JOSEPHINE COUNTY | JOSEPHINE COUNTY.
KEIZER CITY | KEIZER CITY IN MARION COUNTY.
KLAMATH COUNTY | KLAMATH COUNTY.
LAKE COUNTY | LAKE COUNTY.
BALANCE OF LANE COUNTY | LANE COUNTY LESS EUGENE CITY. SPRINGFIELD CITY.
LINCOLN COUNTY | LINCOLN COUNTY.
BALANCE OF LINN COUNTY | LINN COUNTY LESS ALBANY CITY.
MALHEUR COUNTY | MALHEUR COUNTY.
BALANCE OF MARION COUNTY | MARION COUNTY LESS KEIZER CITY. SALEM CITY.
MC MINNVILLE CITY | MC MINNVILLE CITY IN YAMHILL COUNTY.
MEDFORD CITY | MEDFORD CITY IN JACKSON COUNTY.
MORROW COUNTY | MORROW COUNTY.
OREGON CITY CITY | OREGON CITY CITY IN CLACKAMAS COUNTY.
BALANCE OF POLK COUNTY | POLK COUNTY LESS SALEM CITY.
PORTLAND CITY | PORTLAND CITY IN CLACKAMAS COUNTY.
| MULTNOMAH COUNTY.
| WASHINGTON COUNTY.
SALEM CITY | SALEM CITY IN MARION COUNTY. POLK COUNTY.
SHERMAN COUNTY | SHERMAN COUNTY.
SPRINGFIELD CITY | SPRINGFIELD CITY IN LANE COUNTY.
TILLAMOOK COUNTY | TILLAMOOK COUNTY.
UMATILLA COUNTY | UMATILLA COUNTY.
UNION COUNTY | UNION COUNTY.
WALLOWA COUNTY | WALLOWA COUNTY.
WASCO COUNTY | WASCO COUNTY.
WHEELER COUNTY | WHEELER COUNTY.
BALANCE OF YAMHILL COUNTY | YAMHILL COUNTY LESS MC MINNVILLE CITY.
PENNSYLVANIA
ALLENTOWN CITY | ALLENTOWN CITY IN LEHIGH COUNTY.
ARMSTRONG COUNTY | ARMSTRONG COUNTY.
BEDFORD COUNTY | BEDFORD COUNTY.
CAMERON COUNTY | CAMERON COUNTY.
CHESTER CITY | CHESTER CITY IN DELAWARE COUNTY.
CLEARFIELD COUNTY | CLEARFIELD COUNTY.
ERIE CITY | ERIE CITY IN ERIE COUNTY.
FAYETTE COUNTY | FAYETTE COUNTY.
FOREST COUNTY | FOREST COUNTY.
HAZLETON CITY | HAZLETON CITY IN LUZERNE COUNTY.
HUNTINGDON COUNTY | HUNTINGDON COUNTY.
JOHNSTOWN CITY | JOHNSTOWN CITY IN CAMBRIA COUNTY.
MCKEESPORT CITY | MCKEESPORT CITY IN ALLEGHENY COUNTY.
NEW CASTLE CITY | NEW CASTLE CITY IN LAWRENCE COUNTY.
PHILADELPHIA CITY | PHILADELPHIA CITY IN PHILADELPHIA COUNTY.
POTTER COUNTY | POTTER COUNTY.
READING CITY | READING CITY IN BERKS COUNTY.
SCHUYLKILL COUNTY | SCHUYLKILL COUNTY.
WILKES-BARRE CITY | WILKES-BARRE CITY IN LUZERNE COUNTY.
YORK CITY | YORK CITY IN YORK COUNTY.
PUERTO RICO
ADJUNTAS MUNICIPIO | ADJUNTAS MUNICIPIO.
AGUADA MUNICIPIO | AGUADA MUNICIPIO.
AGUADILLA MUNICIPIO | AGUADILLA MUNICIPIO.
AGUAS BUENAS MUNICIPIO | AGUAS BUENAS MUNICIPIO.
AIBONITO MUNICIPIO | AIBONITO MUNICIPIO.
ANASCO MUNICIPIO | ANASCO MUNICIPIO.
ARECIBO MUNICIPIO | ARECIBO MUNICIPIO.
ARROYO MUNICIPIO | ARROYO MUNICIPIO.
BARCELONETA MUNICIPIO | BARCELONETA MUNICIPIO.
BARRANQUITAS MUNICIPIO | BARRANQUITAS MUNICIPIO.
CABO ROJO MUNICIPIO | CABO ROJO MUNICIPIO.
CAGUAS MUNICIPIO | CAGUAS MUNICIPIO.
CAMUY MUNICIPIO | CAMUY MUNICIPIO.
CANOVANAS MUNICIPIO | CANOVANAS MUNICIPIO.
CAROLINA MUNICIPIO | CAROLINA MUNICIPIO.
CATANO MUNICIPIO | CATANO MUNICIPIO.
CAYEY MUNICIPIO | CAYEY MUNICIPIO.
CEIBA MUNICIPIO | CEIBA MUNICIPIO.
CIALES MUNICIPIO | CIALES MUNICIPIO.
CIDRA MUNICIPIO | CIDRA MUNICIPIO.
COAMO MUNICIPIO | COAMO MUNICIPIO.
COMERIO MUNICIPIO | COMERIO MUNICIPIO.
COROZAL MUNICIPIO | COROZAL MUNICIPIO.
DORADO MUNICIPIO | DORADO MUNICIPIO.
FAJARDO MUNICIPIO | FAJARDO MUNICIPIO.
FLORIDA MUNICIPIO | FLORIDA MUNICIPIO.
GUANICA MUNICIPIO | GUANICA MUNICIPIO.
GUAYAMA MUNICIPIO | GUAYAMA MUNICIPIO.
GUAYANILLA MUNICIPIO | GUAYANILLA MUNICIPIO.
GURABO MUNICIPIO | GURABO MUNICIPIO.
HATILLO MUNICIPIO | HATILLO MUNICIPIO.
HORMIGUEROS MUNICIPIO | HORMIGUEROS MUNICIPIO.
HUMACAO MUNICIPIO | HUMACAO MUNICIPIO.
ISABELA MUNICIPIO | ISABELA MUNICIPIO.
JAYUYA MUNICIPIO | JAYUYA MUNICIPIO.
JUANA DIAZ MUNICIPIO | JUANA DIAZ MUNICIPIO.
JUNCOS MUNICIPIO | JUNCOS MUNICIPIO.
LAJAS MUNICIPIO | LAJAS MUNICIPIO.
LARES MUNICIPIO | LARES MUNICIPIO.
LAS MARIAS MUNICIPIO | LAS MARIAS MUNICIPIO.
LAS PIEDRAS MUNICIPIO | LAS PIEDRAS MUNICIPIO.
LOIZA MUNICIPIO | LOIZA MUNICIPIO.
LUQUILLO MUNICIPIO | LUQUILLO MUNICIPIO.
MANATI MUNICIPIO | MANATI MUNICIPIO.
MARICAO MUNICIPIO | MARICAO MUNICIPIO.
MAUNABO MUNICIPIO | MAUNABO MUNICIPIO.
MAYAGUEZ MUNICIPIO | MAYAGUEZ MUNICIPIO.
MOCA MUNICIPIO | MOCA MUNICIPIO.
MOROVIS MUNICIPIO | MOROVIS MUNICIPIO.
NAGUABO MUNICIPIO | NAGUABO MUNICIPIO.
NARANJITO MUNICIPIO | NARANJITO MUNICIPIO.
OROCOVIS MUNICIPIO | OROCOVIS MUNICIPIO.
PATILLAS MUNICIPIO | PATILLAS MUNICIPIO.
PENUELAS MUNICIPIO | PENUELAS MUNICIPIO.
PONCE MUNICIPIO | PONCE MUNICIPIO.
QUEBRADILLAS MUNICIPIO | QUEBRADILLAS MUNICIPIO.
RINCON MUNICIPIO | RINCON MUNICIPIO.
RIO GRANDE MUNICIPIO | RIO GRANDE MUNICIPIO.
SABANA GRANDE MUNICIPIO | SABANA GRANDE MUNICIPIO.
SALINAS MUNICIPIO | SALINAS MUNICIPIO.
SAN GERMAN MUNICIPIO | SAN GERMAN MUNICIPIO.
SAN JUAN MUNICIPIO | SAN JUAN MUNICIPIO.
SAN LORENZO MUNICIPIO | SAN LORENZO MUNICIPIO.
SAN SEBASTIAN MUNICIPIO | SAN SEBASTIAN MUNICIPIO.
SANTA ISABEL MUNICIPIO | SANTA ISABEL MUNICIPIO.
TOA BAJA MUNICIPIO | TOA BAJA MUNICIPIO.
UTUADO MUNICIPIO | UTUADO MUNICIPIO.
VEGA ALTA MUNICIPIO | VEGA ALTA MUNICIPIO.
VEGA BAJA MUNICIPIO | VEGA BAJA MUNICIPIO.
VIEQUES MUNICIPIO | VIEQUES MUNICIPIO.
VILLALBA MUNICIPIO | VILLALBA MUNICIPIO.
YABUCOA MUNICIPIO | YABUCOA MUNICIPIO.
YAUCO MUNICIPIO | YAUCO MUNICIPIO.
RHODE ISLAND
CENTRAL FALLS CITY | CENTRAL FALLS CITY. PROVIDENCE COUNTY.
SOUTH CAROLINA
ABBEVILLE COUNTY | ABBEVILLE COUNTY.
ALLENDALE COUNTY | ALLENDALE COUNTY.
ANDERSON CITY | ANDERSON CITY IN ANDERSON COUNTY.
BAMBERG COUNTY | BAMBERG COUNTY.
BARNWELL COUNTY | BARNWELL COUNTY.
CHEROKEE COUNTY | CHEROKEE COUNTY.
CHESTER COUNTY | CHESTER COUNTY.
CHESTERFIELD COUNTY | CHESTERFIELD COUNTY.
CLARENDON COUNTY | CLARENDON COUNTY.
COLLETON COUNTY | COLLETON COUNTY.
COLUMBIA CITY | COLUMBIA CITY IN RICHLAND COUNTY.
DARLINGTON COUNTY | DARLINGTON COUNTY.
DILLON COUNTY | DILLON COUNTY.
FAIRFIELD COUNTY | FAIRFIELD COUNTY.
FLORENCE CITY | FLORENCE CITY IN FLORENCE COUNTY.
BALANCE OF FLORENCE COUNTY | FLORENCE COUNTY LESS FLORENCE CITY.
GEORGETOWN COUNTY | GEORGETOWN COUNTY.
GREENVILLE CITY | GREENVILLE CITY IN GREENWOOD COUNTY.
GREENWOOD COUNTY | GREENWOOD COUNTY.
HAMPTON COUNTY | HAMPTON COUNTY.
LANCASTER COUNTY | LANCASTER COUNTY.
LAURENS COUNTY | LAURENS COUNTY.
LEE COUNTY | LEE COUNTY.
MARION COUNTY | MARION COUNTY.
MARLBORO COUNTY | MARLBORO COUNTY.
MC CORMICK COUNTY | MC CORMICK COUNTY.
NEWBERRY COUNTY | NEWBERRY COUNTY.
NORTH CHARLESTON CITY | NORTH CHARLESTON CITY IN CHARLESTON COUNTY.
OCONEE COUNTY | OCONEE COUNTY.
ORANGEBURG COUNTY | ORANGEBURG COUNTY.
ROCKHILL CITY | ROCKHILL CITY IN YORK COUNTY.
SALUDA COUNTY | SALUDA COUNTY.
SPARTANBURG CITY | SPARTANBURG CITY IN SPARTANBURTG COUNTY.
SUMTER CITY | SUMTER CITY IN SUMTER COUNTY.
BALANCE OF SUMTER COUNTY | SUMTER COUNTY LESS SUMTER CITY.
UNION COUNTY | UNION COUNTY.
WILLIAMSBURG COUNTY | WILLIAMSBURG COUNTY.
SOUTH DAKOTA
BUFFALO COUNTY | BUFFALO COUNTY.
DEWEY COUNTY | DEWEY COUNTY.
SHANNON COUNTY | SHANNON COUNTY.
TENNESSEE
BENTON COUNTY | BENTON COUNTY.
BLEDSOE COUNTY | BLEDSOE COUNTY.
CARROLL COUNTY | CARROLL COUNTY.
CLAY COUNTY | CLAY COUNTY.
COCKE COUNTY | COCKE COUNTY.
COLUMBIA CITY | COLUMBIA CITY IN MAURY COUNTY.
CROCKETT COUNTY | CROCKETT COUNTY.
DECATUR COUNTY | DECATUR COUNTY.
FENTRESS COUNTY | FENTRESS COUNTY.
GIBSON COUNTY | GIBSON COUNTY.
GILES COUNTY | GILES COUNTY.
GREENE COUNTY | GREENE COUNTY.
HANCOCK COUNTY | HANCOCK COUNTY.
HARDEMAN COUNTY | HARDEMAN COUNTY.
HARDIN COUNTY | HARDIN COUNTY.
HAYWOOD COUNTY | HAYWOOD COUNTY.
HENDERSON COUNTY | HENDERSON COUNTY.
HENRY COUNTY | HENRY COUNTY.
HOUSTON COUNTY | HOUSTON COUNTY.
JACKSON CITY | JACKSON CITY IN MADISON COUNTY.
JACKSON COUNTY | JACKSON COUNTY.
JOHNSON COUNTY | JOHNSON COUNTY.
KINGSPORT CITY | KINGSPORT CITY IN HAWKINS COUNTY. SULLIVAN COUNTY.
LAUDERDALE COUNTY | LAUDERDALE COUNTY.
LAWRENCE COUNTY | LAWRENCE COUNTY.
LEWIS COUNTY | LEWIS COUNTY.
MARSHALL COUNTY | MARSHALL COUNTY.
MEIGS COUNTY | MEIGS COUNTY.
MEMPHIS CITY | MEMPHIS CITY IN SHELBY COUNTY.
MONROE COUNTY | MONROE COUNTY.
MORGAN COUNTY | MORGAN COUNTY.
PICKETT COUNTY | PICKETT COUNTY.
SCOTT COUNTY | SCOTT COUNTY.
SMITH COUNTY | SMITH COUNTY.
WAYNE COUNTY | WAYNE COUNTY.
WEAKLEY COUNTY | WEAKLEY COUNTY.
TEXAS
ANDERSON COUNTY | ANDERSON COUNTY.
ARANSAS COUNTY | ARANSAS COUNTY.
BAYTOWN CITY | BAYTOWN CITY IN HARRIS COUNTY.
BEAUMONT CITY | BEAUMONT CITY IN JEFFERSON COUNTY.
BEE COUNTY | BEE COUNTY.
BALANCE OF BRAZORIA COUNTY | BRAZORIA COUNTY LESS LAKE JACKSON CITY.
| PEARLAND CITY.
BROOKS COUNTY | BROOKS COUNTY.
BROWNSVILLE CITY | BROWNSVILLE CITY IN CAMERON COUNTY.
CALHOUN COUNTY | CALHOUN COUNTY.
BALANCE OF CAMERON COUNTY | CAMERON COUNTY LESS BROWNSVILLE CITY. HARLINGEN CITY.
CASS COUNTY | CASS COUNTY.
CLEBURNE CITY | CLEBURNE CITY IN JOHNSON COUNTY.
COCHRAN COUNTY | COCHRAN COUNTY.
CONROE CITY | CONROE CITY IN MONTGOMERY COUNTY.
COPPERAS COVE CITY | COPPERAS COVE CITY IN CORYELL COUNTY.
CORSICANA CITY | CORSICANA CITY IN NAVARRO COUNTY.
CRANE COUNTY | CRANE COUNTY.
DALLAS CITY | DALLAS CITY IN COLLIN COUNTY.
| DALLAS COUNTY.
| DENTON COUNTY.
DAWSON COUNTY | DAWSON COUNTY.
DEL RIO CITY | DEL RIO CITY IN VAL VERDE COUNTY.
DELTA COUNTY | DELTA COUNTY.
DIMMIT COUNTY | DIMMIT COUNTY.
DUVAL COUNTY | DUVAL COUNTY.
EDINBURG CITY | EDINBURG CITY IN HIDALGO COUNTY.
EL PASO CITY | EL PASO CITY IN EL PASO COUNTY.
BALANCE OF EL PASO COUNTY | EL PASO COUNTY LESS EL PASO CITY. SOCORRO CITY.
FANNIN COUNTY | FANNIN COUNTY.
FLOYD COUNTY | FLOYD COUNTY.
FRIO COUNTY | FRIO COUNTY.
FT WORTH CITY | FT WORTH CITY IN TARRANT COUNTY.
GALVESTON CITY | GALVESTON CITY IN GALVESTON COUNTY.
BALANCE OF GALVESTON COUNTY | GALVESTON COUNTY LESS FRIENDSWOOD CITY.
| GALVESTON CITY.
| LEAGUE CITY.
| TEXAS CITY.
GRAND PRAIRIE CITY | GRAND PRAIRIE CITY IN DALLAS COUNTY. TARRANT COUNTY.
GREENVILLE CITY | GREENVILLE CITY IN HUNT COUNTY.
GRIMES COUNTY | GRIMES COUNTY.
HARDIN COUNTY | HARDIN COUNTY.
HARLINGEN CITY | HARLINGEN CITY IN CAMERON COUNTY.
BALANCE OF HIDALGO COUNTY | HIDALGO COUNTY LESS EDINBURG CITY.
| MC ALLEN CITY.
| MISSION CITY.
| PHARR CITY.
| SAN JUAN CITY.
| WESLACO CITY.
HOUSTON CITY | HOUSTON CITY IN FORT BEND COUNTY.
| HARRIS COUNTY.
HOUSTON COUNTY | HOUSTON COUNTY.
HUDSPETH COUNTY | HUDSPETH COUNTY.
JASPER COUNTY | JASPER COUNTY.
KARNES COUNTY | KARNES COUNTY.
KAUFMAN COUNTY | KAUFMAN COUNTY.
KILLEEN CITY | KILLEEN CITY IN BELL COUNTY.
LA SALLE COUNTY | LA SALLE COUNTY.
LANCASTER CITY | LANCASTER CITY IN DALLAS COUNTY.
LIBERTY COUNTY | LIBERTY COUNTY.
LONGVIEW CITY | LONGVIEW CITY IN GREGG COUNTY.
| HARRISON COUNTY.
LUFKIN CITY | LUFKIN CITY IN ANGELINA COUNTY.
MATAGORDA COUNTY | MATAGORDA COUNTY.
MAVERICK COUNTY | MAVERICK COUNTY.
MISSION CITY | MISSION CITY IN HIDALGO COUNTY.
MITCHELL COUNTY | MITCHELL COUNTY.
MORRIS COUNTY | MORRIS COUNTY.
NEWTON COUNTY | NEWTON COUNTY.
BALANCE OF NUECES COUNTY | NUECES COUNTY LESS CORPUS CHRISTI CITY.
ORANGE COUNTY | ORANGE COUNTY.
PARIS CITY | PARIS CITY IN LAMAR COUNTY.
PASADENA CITY | PASADENA CITY IN HARRIS COUNTY.
PHARR CITY | PHARR CITY IN HIDALGO COUNTY.
POLK COUNTY | POLK COUNTY.
PORT ARTHUR CITY | PORT ARTHUR CITY IN JEFFERSON COUNTY.
PRESIDIO COUNTY | PRESIDIO COUNTY.
RED RIVER COUNTY | RED RIVER COUNTY.
REEVES COUNTY | REEVES COUNTY.
ROSENBERG CITY | ROSENBERG CITY IN FORT BEND COUNTY.
SABINE COUNTY | SABINE COUNTY.
SAN JUAN CITY | SAN JUAN CITY IN HIDALGO COUNTY.
SAN MARCOS CITY | SAN MARCOS CITY IN HAYS COUNTY.
SAN PATRICIO COUNTY | SAN PATRICIO COUNTY.
SHERMAN CITY | SHERMAN CITY IN GRAYSON COUNTY.
SOCORRO CITY | SOCORRO CITY IN EL PASO COUNTY.
STARR COUNTY | STARR COUNTY.
TEXARKANA CITY TEX | TEXARKANA CITY TEX IN BOWIE COUNTY.
TEXAS CITY | TEXAS CITY IN GALVESTON COUNTY.
TYLER COUNTY | TYLER COUNTY.
UVALDE COUNTY | UVALDE COUNTY.
BALANCE OF VAL VERDE COUNTY | VAL VERDE COUNTY LESS DEL RIO CITY.
WACO CITY | WACO CITY IN MC LENNAN COUNTY.
WARD COUNTY | WARD COUNTY.
BALANCE OF WEBB COUNTY | WEBB COUNTY LESS LAREDO CITY.
WESLACO CITY | WESLACO CITY IN HIDALGO COUNTY.
WILLACY COUNTY | WILLACY COUNTY.
WINKLER COUNTY | WINKLER COUNTY.
ZAPATA COUNTY | ZAPATA COUNTY.
ZAVALA COUNTY | ZAVALA COUNTY.
UTAH
CARBON COUNTY | CARBON COUNTY.
EMERY COUNTY | EMERY COUNTY.
GARFIELD COUNTY | GARFIELD COUNTY.
GRAND COUNTY | GRAND COUNTY.
OGDEN CITY | OGDEN CITY IN WEBER COUNTY.
SAN JUAN COUNTY | SAN JUAN COUNTY.
WEST VALLEY CITY | WEST VALLEY CITY IN SALT LAKE COUNTY.
VERMONT
KILLINGTON TOWN | KILLINGTON TOWN IN RUTLAND COUNTY.
VIRGINIA
BRUNSWICK COUNTY | BRUNSWICK COUNTY.
DANVILLE CITY | DANVILLE CITY.
DICKENSON COUNTY | DICKENSON COUNTY.
EMPORIA CITY | EMPORIA CITY.
HALIFAX COUNTY | HALIFAX COUNTY.
HENRY COUNTY | HENRY COUNTY.
MARTINSVILLE CITY | MARTINSVILLE CITY.
MECKLENBURG COUNTY | MECKLENBURG COUNTY.
PATRICK COUNTY | PATRICK COUNTY.
PETERSBURG CITY | PETERSBURG CITY.
SUSSEX COUNTY | SUSSEX COUNTY.
WILLIAMSBURG CITY | WILLIAMSBURG CITY.
WASHINGTON
ADAMS COUNTY | ADAMS COUNTY.
ASOTIN COUNTY | ASOTIN COUNTY.
AUBURN CITY | AUBURN CITY IN KING COUNTY.
BELLINGHAM CITY | BELLINGHAM CITY IN WHATCOM COUNTY.
BALANCE OF BENTON COUNTY | BENTON COUNTY LESS KENNEWICK CITY.
| RICHLAND CITY.
BREMERTON CITY | BREMERTON CITY IN KITSAP COUNTY.
BALANCE OF CHELAN COUNTY | CHELAN COUNTY LESS WENATCHEE CITY.
CLALLAM COUNTY | CLALLAM COUNTY.
BALANCE OF CLARK COUNTY | CLARK COUNTY LESS VANCOUVER CITY.
COLUMBIA COUNTY | COLUMBIA COUNTY.
BALANCE OF COWLITZ COUNTY | COWLITZ COUNTY LESS LONGVIEW CITY.
DES MOINES CITY | DES MOINES CITY IN KING COUNTY.
DOUGLAS COUNTY | DOUGLAS COUNTY.
EVERETT CITY | EVERETT CITY IN SNOHOMISH COUNTY.
FERRY COUNTY | FERRY COUNTY.
GRANT COUNTY | GRANT COUNTY.
GRAYS HARBOR COUNTY | GRAYS HARBOR COUNTY.
ISLAND COUNTY | ISLAND COUNTY.
KENT CITY | KENT CITY IN KING COUNTY.
KLICKITAT COUNTY | KLICKITAT COUNTY.
LAKEWOOD CITY | LAKEWOOD CITY IN PIERCE COUNTY.
LEWIS COUNTY | LEWIS COUNTY.
LONGVIEW CITY | LONGVIEW CITY IN COWLITZ COUNTY.
MASON COUNTY | MASON COUNTY.
MOUNT VERNON CITY | MOUNT VERNON CITY IN SKAGIT COUNTY.
OKANOGAN COUNTY | OKANOGAN COUNTY.
PACIFIC COUNTY | PACIFIC COUNTY.
PASCO CITY | PASCO CITY IN FRANKLIN COUNTY.
PEND OREILLE COUNTY | PEND OREILLE COUNTY.
BALANCE OF PIERCE COUNTY | PIERCE COUNTY LESS LAKEWOOD CITY.
| PUYALLUP CITY.
| TACOMA CITY.
| UNIVERSITY PLACE CITY.
SEA TAC CITY | SEA TAC CITY IN KING COUNTY.
BALANCE OF SKAGIT COUNTY | SKAGIT COUNTY LESS MOUNT VERNON CITY.
SKAMANIA COUNTY | SKAMANIA COUNTY.
SPOKANE CITY | SPOKANE CITY IN SPOKANE COUNTY.
STEVENS COUNTY | STEVENS COUNTY.
TACOMA CITY | TACOMA CITY IN PIERCE COUNTY.
VANCOUVER CITY | VANCOUVER CITY IN CLARK COUNTY.
WAHKIAKUM COUNTY | WAHKIAKUM COUNTY.
WALLA WALLA CITY | WALLA WALLA CITY IN WALLA WALLA COUNTY.
WENATCHEE CITY | WENATCHEE CITY IN CHELAN COUNTY.
YAKIMA CITY | YAKIMA CITY IN YAKIMA COUNTY.
BALANCE OF YAKIMA COUNTY | YAKIMA COUNTY LESS YAKIMA CITY.
WEST VIRGINIA
CALHOUN COUNTY | CALHOUN COUNTY.
CLAY COUNTY | CLAY COUNTY.
GRANT COUNTY | GRANT COUNTY.
JACKSON COUNTY | JACKSON COUNTY.
LINCOLN COUNTY | LINCOLN COUNTY.
MASON COUNTY | MASON COUNTY.
MC DOWELL COUNTY | MC DOWELL COUNTY.
MINGO COUNTY | MINGO COUNTY.
RITCHIE COUNTY | RITCHIE COUNTY.
ROANE COUNTY | ROANE COUNTY.
TYLER COUNTY | TYLER COUNTY.
WETZEL COUNTY | WETZEL COUNTY.
WIRT COUNTY | WIRT COUNTY.
WYOMING COUNTY | WYOMING COUNTY.
WISCONSIN
BELOIT CITY | BELOIT CITY IN ROCK COUNTY.
GREEN BAY CITY | GREEN BAY CITY IN BROWN COUNTY.
IRON COUNTY | IRON COUNTY.
KENOSHA CITY | KENOSHA CITY IN KENOSHA COUNTY.
MANITOWOC CITY | MANITOWOC CITY IN MANITOWOC COUNTY.
MARQUETTE COUNTY | MARQUETTE COUNTY.
MENOMINEE COUNTY | MENOMINEE COUNTY.
MILWAUKEE CITY | MILWAUKEE CITY IN MILWAUKEE COUNTY.
RACINE CITY | RACINE CITY IN RACINE COUNTY.

[FR Doc. 06-193 Filed 1-9-06; 8:45 am]

BILLING CODE 4510-30-P